DEPARTMENT OF VETERANS AFFAIRS

Advisory Committee on Homeless Veterans, Notice of Meeting

The Department of Veterans Affairs (VA) gives notice under Public Law 92-463 (Federal Advisory Committee Act) that a meeting of the Advisory Committee on Homeless Veterans will be held on June 1-2, 2012, in room 900 at 1722 Eye Street NW., Washington, DC, from 1 p.m. to 4 p.m. on June 1 and from 8 a.m. to noon on June 2. The meeting is open to the public.

The purpose of the Committee is to provide the Secretary of Veterans Affairs with an on-going assessment of the effectiveness of the policies, organizational structures, and services of the Department in assisting homeless Veterans. The Committee shall assemble and review information relating to the needs of homeless Veterans and provide on-going advice on the most appropriate means of providing assistance to homeless Veterans. The Committee will make recommendations to the Secretary regarding such activities.

On June 1, the Committee will receive briefings from VA and other officials on services for homeless Veterans. On June 2, the Committee will begin final preparation of its upcoming annual report and recommendations to the Secretary.

No time will be allocated at this meeting for receiving oral presentations from the public. Interested parties should provide written comments on issues affecting homeless Veterans for review by the Committee to Mr. Pete Dougherty, Designated Federal Officer, Homeless Veterans Initiative Office (075D), Department of Veterans Affairs, 1722 Eye Street NW., Washington, DC 20006, or email to Pete.Dougherty@va.gov. Individuals who wish to attend the meeting should contact Mr. Dougherty at (202) 461-1857.

Dated: April 26, 2012.
By Direction of the Secretary.
Vivian Drake,
Committee Management Officer.

[FR Doc. 2012-10524 Filed 5-1-12; 8:45 am]

BILLING CODE 8320-01-P